DEPARTMENT OF THE INTERIOR

Bureau of Land Management

[NV-930-1430-ET; N-66423]

Notice of Proposed Withdrawal and Opportunity for Public Meeting; Nevada

AGENCY: Bureau of Land Management, Interior.

ACTION: Notice.

SUMMARY: The Bureau of Land Management proposes to withdraw a 0.57-acre parcel of public land for a period of 20 years to protect a wildland fire station site. This notice closes the land for up to 2 years from surface entry and mining while various studies and analyses are made to make a final decision. The land is located within the incorporated City of Carlin, Nevada and is not subject to mineral leasing.

DATES: Comments and requests for meeting should be received on or before September 5, 2000.

ADDRESSES: Comments and meeting requests should be sent to the Nevada State Director, BLM, 1340 Financial Blvd., P.O. Box 12000, Reno, Nevada 89520-0006.

FOR FURTHER INFORMATION CONTACT: Dennis J. Samuelson, BLM Nevada State Office, 775-861-6532.

SUPPLEMENTARY INFORMATION: On May 22, 2000, a petition was approved allowing the Bureau of Land Management to file an application to withdraw the following described public land from settlement, sale, location, or entry under the general land laws, including the mining laws, subject to valid existing rights:

Mount Diablo Meridian

T. 33 N., R. 52 E.,

Sec. 27, lots 8, 9, 10, 11, 12, 13, 14, 15, 16, and 17 in Block 6, Town of Carlin, as shown on the map filed in the office of the County Recorder of Elko County, Nevada, on March 6, 1919.

The area described contains 0.57 acres in Elko County. The land is located within the incorporated city limits Carlin, Nevada, and is not subject to mineral leasing (43 CFR 3100.0-3(a)(2)(iii)).

The purpose of the proposed withdrawal is to protect a Bureau of Land Management wildland fire station site. Funding has been approved for construction of the fire station.

For a period of 90 days from the date of publication of this notice, all persons who wish to submit comments, suggestions, or objections in connection with the proposed withdrawal may present their views in writing to the Nevada State Director of the Bureau of Land Management.

Notice is hereby given that an opportunity for a public meeting is afforded in connection with the proposed withdrawal. All interested persons who desire a public meeting for the purpose of being heard on the proposed withdrawal must submit a written request to the Nevada State Director within 90 days from the date of publication of this notice. Upon determination by the authorized officer that a public meeting will be held, a notice of the time and place will be published in the Federal Register at least 30 days before the scheduled date of the meeting.

The application will be processed in accordance with the regulations set forth in 43 CFR Part 2300.

For a period of 2 years from the date of publication of this notice in the Federal Register, the lands will be segregated as specified above unless the application is denied or canceled or the withdrawal is approved prior to that date. Other uses which will be permitted during this segregative period are rights-of-way, leases, and permits.

Dated: May 26, 2000.
Jim Stobaugh,
Lands Team Lead.

[FR Doc. 00-13992 Filed 6-2-00; 8:45 am]

BILLING CODE 4310-HC-P